DEPARTMENT OF THE INTERIOR

National Park Service

[NPS-WASO-NAGPRA-NPS0035711; PPWOCRADN0-PCU00RP14.R50000]

Notice of Intent To Repatriate Cultural Items: U.S. Army Corps of Engineers, Mobile District, Mobile, AL

AGENCY: National Park Service, Interior.

ACTION: Notice.

SUMMARY: In accordance with the Native American Graves Protection and Repatriation Act (NAGPRA), the U.S. Army Corps of Engineers, Mobile District, intends to repatriate certain cultural items that meet the definition of unassociated funerary objects and that have a cultural affiliation with the Indian Tribes or Native Hawaiian organizations in this notice. The cultural items were removed from Clay and Lowndes Counties, MS.

DATES: Repatriation of the cultural items in this notice may occur on or after May 26, 2023.

ADDRESSES: Ms. Alexandria Smith, U.S. Army Corps of Engineers, Mobile District, 109 St. Joseph Street, P.O. Box 2288, Mobile, AL 36628-0001, telephone (251) 690-2728, email Alexandria.N.Smith@usace.army.mil.

SUPPLEMENTARY INFORMATION: This notice is published as part of the National Park Service's administrative responsibilities under NAGPRA. The determinations in this notice are the sole responsibility of the U.S. Army Corps of Engineers, Mobile District. The National Park Service is not responsible for the determinations in this notice. Additional information on the determinations in this notice, including the results of consultation, can be found in the summary or related records held by the U.S. Army Corps of Engineers, Mobile District.

Description

One cultural item was removed from Clay County, MS. The Kellogg Village site (22CL527), located in the Divide Cut Section of the Tennessee Tombigbee Waterway, contained Middle Archaic, Woodland, and Mississippian components. The site was excavated by the Department of Anthropology, Mississippi State University under principal investigator James R. Atkinson and field director G. Gerald Berry, between June 29 and September 16, 1978. The one unassociated funerary object is a square stone gorget.

Forty-eight cultural items were removed from Lowndes County, MS. The Shell Bluff site (22LO530) is a shell midden and base camp with Late Woodland and Miller III components. Excavation of the site by the University of Southern Mississippi under principal investigators Drs. David Heisler and Robert Gilbert and field directors Thomas Padgett and Don Crusoe began in July and August of 1979 and resumed during mid-October through late November 1979. The 48 lots of unassociated funerary objects consist of 11 lots of ceramics, five lots of lithics, six lots of shells, two lots of ground sandstone, six lots of faunal remains, four lots of miscellaneous fill, three lots of daub, three lots of sandstone fragments, four lots of soil samples, two lots of burial fill, one lot of firecracked rock, and one lot of fired clay.

Eleven cultural items were removed from Lowndes County, MS. The Vaughn Mound site (22LO538) has Middle Archaic, Woodland, Miller III, and Miller IV components. The site was identified by Marc D. Rucker as part of a field survey, and it was excavated by the Mississippi State University's Department of Anthropology under Rucker's direction, with the assistance of James R. Atkinson and Michael D. Walls, over a ten-week period during the summer of 1973. The 11 lots of unassociated funerary objects consist of five lots of faunal remains, four lots of shell, one lot of clay, and one lot of shell ornaments.

One cultural item was removed from Lowndes County, MS. The Tibbee Creek site (22LO600) has components from the early Gulf Formational through the Mississippian, with the most concentrated occupation occurring during the late Woodland Miller III phase. The site was excavated by the Department of Anthropology, Mississippi State University under the direction of Crawford Blakeman, Principal Investigator, and John O'Hear, Project Director (and later Principal Investigator), beginning in November 1976. Excavation was completed in August of 1977. The one unassociated funerary object is one lot of ceramics.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, historical, other information, and expert opinion.

Determinations

Pursuant to NAGPRA and its implementing regulations, and after consultation with the appropriate Indian Tribes and Native Hawaiian organizations, the U.S. Army Corps of Engineers, Mobile District has determined that:

• The 61 cultural items described above are reasonably believed to have been placed with or near individual human remains at the time of death or later as part of the death rite or ceremony and are believed, by a preponderance of the evidence, to have been removed from a specific burial site of a Native American individual.

• There is a relationship of shared group identity that can be reasonably traced between the cultural items and The Chickasaw Nation and The Choctaw Nation of Oklahoma.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 26, 2023. If competing requests for repatriation are received, the U.S. Army Corps of Engineers, Mobile District must determine the most appropriate requestor prior to repatriation. Requests for joint repatriation of the cultural items are considered a single request and not competing requests. The U.S. Army Corps of Engineers, Mobile District is responsible for sending a copy of this notice to the Indian Tribes identified in this notice.

Authority: Native American Graves Protection and Repatriation Act, 25 U.S.C. 3003, and the implementing regulations, 43 CFR 10.8, 10.10, and 10.14.

Dated: April 19, 2023.
Melanie O'Brien,
Manager, National NAGPRA Program.

[FR Doc. 2023-08809 Filed 4-25-23; 8:45 am]

BILLING CODE 4312-52-P